DEPARTMENT OF HOMELAND SECURITY

Federal Emergency Management Agency

[Docket ID FEMA-2014-0002; Internal Agency Docket No. FEMA-B-1407]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Alabama: Jefferson | Unincorporated areas of Jefferson County (13-04-8615P) | The Honorable David Carrington, Chairman, Jefferson County Board of Commissioners, 716 Richard Arrington Jr. Boulevard North, Birmingham, AL 35203 | Jefferson County Courthouse, Land Development Office, 716 Richard Arrington Jr. Boulevard North, Room 202A, Birmingham, AL 35263 | www.msc.fema.gov/lomc | April 24, 2014 | 010217
Arizona: Maricopa | City of Phoenix (13-09-2437P) | The Honorable Greg Stanton, Mayor, City of Phoenix, 200 West Washington Street, 11th Floor, Phoenix, AZ 85003 | Street Transportation Department, 200 West Washington Street, 5th Floor, Phoenix, AZ 85003 | www.msc.fema.gov/lomc | April 11, 2014 | 040051
Maricopa | Town of Queen Creek (13-09-2145P) | The Honorable Gail Barney, Mayor, Town of Queen Creek, 22350 South Ellsworth Road, Queen Creek, AZ 85142 | Town Hall, 22350 South Ellsworth Road, Queen Creek, AZ 85142 | www.msc.fema.gov/lomc | April 18, 2014 | 040132
Maricopa | Unincorporated areas of Maricopa County (13-09-2145P) | The Honorable Andy Kunasek, Chairman, Maricopa County Board of Supervisors, 301 West Jefferson, 10th Floor, Phoenix, AZ 85003 | Maricopa County Flood Control District, 2801 West Durango Street, Phoenix, AZ 85009 | www.msc.fema.gov/lomc | April 18, 2014 | 040037
Santa Cruz | Town of Patagonia (13-09-2232P) | The Honorable Ike Isakson, Mayor, Town of Patagonia, P.O. Box 767, Patagonia, AZ 85624 | Town Clerk's Office, 310 West McKeown Avenue, Patagonia, AZ 85624 | www.msc.fema.gov/lomc | April 9, 2014 | 040092
Santa Cruz | Unincorporated areas of Santa Cruz County (13-09-2232P) | The Honorable Manuel Ruiz, Chairman, Santa Cruz County Board of Supervisors, 2150 North Congress Drive, Nogales, AZ 85621 | Santa Cruz County Flood Control District, 2150 North Congress Drive, Nogales, AZ 85621 | www.msc.fema.gov/lomc | April 9, 2014 | 040090
California: Riverside | City of Murrieta (12-09-2519P) | The Honorable Rick Gibbs, Mayor, City of Murrieta, 1 Town Square, Murrieta, CA 92562 | Department of Public Works and Engineering, 1 Town Square, Murrieta, CA 92562 | www.msc.fema.gov/lomc | April 7, 2014 | 060751
Solano | City of Vacaville (13-09-3024P) | The Honorable Steve Hardy, Mayor, City of Vacaville, 650 Merchant Street, Vacaville, CA 95688 | Public Works and Engineering Department, 650 Merchant Street, Vacaville, CA 95688 | www.msc.fema.gov/lomc | March 28, 2014 | 060373
Colorado: Adams | City of Commerce City (13-08-1128P) | The Honorable Sean Ford, Sr., Mayor, City of Commerce City, 7887 East 60th Avenue, Commerce City, CO 80022 | City Hall, 5291 East 60th Avenue, Commerce City, CO 80022 | www.msc.fema.gov/lomc | April 25, 2014 | 080006
Denver | City and County of Denver (13-08-0942P) | The Honorable Michael B. Hancock, Mayor, City and County of Denver, 1437 Bannock Street, Suite 350, Denver, CO 80202 | Department of Public Works, 201 West Colfax Avenue, Denver, CO 80202 | www.msc.fema.gov/lomc | May 5, 2014 | 080046
El Paso | City of Colorado Springs (13-08-0960P) | The Honorable Steve Bach, Mayor, City of Colorado Springs, 30 South Nevada Avenue, Colorado Springs, CO 80903 | Floodplain Administrator, 2880 International Circle, Colorado Springs, CO 80910 | www.msc.fema.gov/lomc | April 11, 2014 | 080060
El Paso | Unincorporated areas of El Paso County (13-08-0960P) | The Honorable Dennis Hisey, Chairman, El Paso County Board of Commissioners, 200 South Cascade Avenue, Suite 100, Colorado Springs, CO 80903 | El Paso County Floodplain Administrator, 2880 International Circle, Colorado Springs, CO 80910 | www.msc.fema.gov/lomc | April 11, 2014 | 080059
Florida: Brevard | City of Cocoa Beach (13-04-4473P) | The Honorable Dave Netterstrom, Mayor, City of Cocoa Beach, 2 South Orlando Avenue, Cocoa Beach, FL 32931 | City Hall, 2 South Orlando Avenue, Cocoa Beach, FL 32931 | www.msc.fema.gov/lomc | May 5, 2014 | 125097
Brevard | Unincorporated areas of Brevard County (13-04-4473P) | The Honorable Andy Anderson, Brevard County Commissioner, 2725 Judge Fran Jamieson Way, Viera, FL 32940 | Brevard County Public Works Department, Brevard County Government Center, 2725 Judge Fran Jamieson Way, Viera, FL 32940 | www.msc.fema.gov/lomc | May 5, 2014 | 125092
Broward | Town of Lauderdale-By-The-Sea (13-04-6349P) | The Honorable Roseann Minnet, Mayor, Town of Lauderdale-By-The-Sea, 4501 Ocean Drive, Lauderdale-By-The-Sea, FL 33308 | Town Hall, 4501 Ocean Drive, Lauderdale-By-The-Sea, FL 33308 | www.msc.fema.gov/lomc | April 18, 2014 | 125123
Charlotte | Unincorporated areas of Charlotte County (13-04-5518P) | The Honorable Christopher Constance, Chairman, Charlotte County Board of Commissioners, 18500 Murdock Circle, Suite 536, Port Charlotte, FL 33948 | Charlotte County Community Development Department, 18500 Murdock Circle, Suite 536, Port Charlotte, FL 33948 | www.msc.fema.gov/lomc | April 18, 2014 | 120061
Charlotte | Unincorporated areas of Charlotte County (13-04-7424P) | The Honorable Christopher Constance, Chairman, Charlotte County Board of Commissioners, 18500 Murdock Circle, Suite 536, Port Charlotte, FL 33948 | Charlotte County Community Development Department, 18500 Murdock Circle, Suite 536, Port Charlotte, FL 33948 | www.msc.fema.gov/lomc | March 28, 2014 | 120061
Escambia | Unincorporated areas of Escambia County (13-04-5547P) | The Honorable Gene M. Valentino, Chairman, Escambia County Board of Commissioners, 221 Palafox Place, Suite 400, Pensacola, FL 32502 | Escambia County Development Services Department, 3363 West Park Place, Pensacola, FL 32505 | www.msc.fema.gov/lomc | May 12, 2014 | 120080
Miami-Dade | City of Sunny Isles Beach (13-04-6621P) | The Honorable Norman S. Edelcup, Mayor, City of Sunny Isles Beach, 18070 Collins Avenue, Suite 250, Sunny Isles Beach, FL 33160 | City Hall, 18070 Collins Avenue, Suite 250, Sunny Isles Beach, FL 33160 | www.msc.fema.gov/lomc | March 28, 2014 | 120688
Monroe | Unincorporated areas of Monroe County (13-04-5320P) | The Honorable George Neugent, Mayor, Monroe County, 1100 Simonton Street, Key West, FL 33040 | Monroe County Building Department, 2798 Overseas Highway, Marathon, FL 33050 | www.msc.fema.gov/lomc | March 14, 2014 | 125129
Orange | City of Orlando (13-04-7164P) | The Honorable Buddy Dyer, Mayor, City of Orlando, P.O. Box 4990, Orlando, FL 32808 | Permitting Services Department, 400 South Orange Avenue, Orlando, FL 32801 | www.msc.fema.gov/lomc | April 25, 2014 | 120186
Pinellas | City of Treasure Island (13-04-6622P) | The Honorable Robert Minning, Mayor, City of Treasure Island, 120 108th Avenue, Treasure Island, FL 33706 | Building Department, 120 108th Avenue, Treasure Island, FL 33706 | www.msc.fema.gov/lomc | April 3, 2014 | 125153
Sumter | Unincorporated areas of Sumter County (13-04-4550P) | The Honorable Doug Gilpin, Chairman, Sumter County Board of Commissioners, 7375 Powell Road, Wildwood, FL 34785 | Sumter County Planning Department, 7375 Powell Road, Wildwood, FL 34785 | www.msc.fema.gov/lomc | April 11, 2014 | 120296
Georgia: Fannin | Unincorporated areas of Fannin County (13-04-3830P) | The Honorable Bill Simonds, Chairman, Fannin County Board of Commissioners, 400 West Main Street, Suite 100, Blue Ridge, GA 30513 | Fannin County Government Center, 400 West Main Street, Suite 100, Blue Ridge, GA 30513 | www.msc.fema.gov/lomc | March 27, 2014 | 130249
Fulton | City of Roswell (13-04-3682P) | The Honorable Jere Wood, Mayor, City of Roswell, 38 Hill Street, Suite 235, Roswell, GA 30075 | Public Works and Environmental Department, 38 Hill Street, Suite 235 Roswell, GA 30075 | www.msc.fema.gov/lomc | April 18, 2014 | 130088
Jackson | City of Jefferson (13-04-5609P) | The Honorable Jim Joiner, Mayor, City of Jefferson, 147 Athens Street, Jefferson, GA 30549 | City Hall, 147 Athens Street, Jefferson, GA 30549 | www.msc.fema.gov/lomc | May 1, 2014 | 130112
Nebraska: Lancaster | City of Lincoln (13-07-2463P) | The Honorable Chris Beutler, Mayor, City of Lincoln, 555 South 10th Street, Suite 301, Lincoln, NE 68508 | Building and Safety Department, 555 South 10th Street, Lincoln, NE 68508 | www.msc.fema.gov/lomc | May 5, 2014 | 315273
North Carolina: Avery | Unincorporated Areas of Avery County (14-04-0128P) | The Honorable Kenny Poteat, Chairman, Avery County Board of Commissioners, P.O. Box 640, Newland, NC 28657 | Avery County Planning and Inspections Department, 200 Montezuma Street, Newland, NC 28657 | www.msc.fema.gov/lomc | April 25, 2014 | 370010
Buncombe | Town of Black Mountain (14-04-0350P) | The Honorable Carl Bartlett, Mayor, Town of Black Mountain, 160 Midland Avenue, Black Mountain, NC 28711 | Planning and Development Department, 160 Midland Avenue, Black Mountain, NC 28711 | www.msc.fema.gov/lomc | April 25, 2014 | 370033
Lee | Unincorporated areas of Lee County (14-04-0349P) | Mr. John Crumpton, Lee County Manager, 408 Summit Drive, Sanford, NC 27330 | Lee County GIS Strategic Services Office, 408 Summit Drive, Sanford, NC 27330 | www.msc.fema.gov/lomc | April 21, 2014 | 370331
South Carolina: Charleston | City of Charleston (13-04-6316P) | The Honorable Joseph P. Riley, Jr., Mayor, City of Charleston, P.O. Box 652, Charleston, SC 29402 | Department of Public Services, 75 Calhoun Street, 3rd Floor, Charleston, SC 29401 | www.msc.fema.gov/lomc | May 5, 2014 | 455412
Charleston | Unincorporated areas of Charleston County (13-04-7776P) | The Honorable Teddie E. Pryor, Sr., Chairman, Charleston County Council, Lonnie Hamilton, III Public Services Building, 4045 Bridge View Drive, North Charleston, SC 29405 | Charleston County Building Services Department, Lonnie Hamilton, III Public Services Building, 4045 Bridge View Drive, North Charleston, SC 29405 | www.msc.fema.gov/lomc | March 28, 2014 | 455413
South Dakota: Lawrence | City of Deadwood (13-08-1250P) | The Honorable Charles Turbiville, Mayor, City of Deadwood, 102 Sherman Street, Deadwood, SD 57732 | Planning and Zoning Department, 108 Sherman Street, Deadwood, SD 57732 | www.msc.fema.gov/lomc | April 7, 2014 | 460045

(Catalog of Federal Domestic Assistance No. 97.022, “Flood Insurance.”)

Dated: March 7, 2014.
Roy Wright,
Deputy Associate Administrator for Mitigation, Department of Homeland Security, Federal Emergency Management Agency.

[FR Doc. 2014-06287 Filed 3-21-14; 8:45 am]

BILLING CODE 9110-12-P